DEPARTMENT OF HOUSING AND URBAN DEVELOPMENT

[Docket No. FR-4912-N-24]

Notice of Availability of a Final Environmental Impact Statement for the Westpark Master Plan Redevelopment Project, City of Bremerton, WA

AGENCY: Office of the Assistant Secretary for Community Planning and Development, HUD.

ACTION: Notice.

SUMMARY: HUD gives this notice to the public, agencies and Indian Tribes on the availability for public review of the Final Environmental Impact Statement for the redevelopment of the Westpark public housing community in Bremerton, WA. HUD gives this notice on behalf of the City of Bremerton acting as the Responsible Entity for compliance with the National Environmental Policy Act (NEPA) in accordance with 24 CFR 58.4, and jointly the Bremerton Housing Authority (BHA) acting as lead agency for compliance with the Washington State Environmental Policy Act (SEPA). The NEPA/SEPA Final EIS will be available for a 30-day period beginning today. A NEPA Record of Decision (ROD) will be issued after the 30-day availability period. This notice is in accordance with the Council on Environmental Quality regulations at 40 CFR parts 1500-1508.

DATES: Comments Due Date: Comments must be received 30 days from the date of publication of this notice in the Federal Register. Comments are to be submitted to Andrea Spencer at the address below or Andrea.Spencer@ci.bremerton.wa.us.

ADDRESSES: The Final EIS is available on the internet and can be viewed or downloaded at http://www.ci.bremerton.wa.us; or http://www.newwestpark.com. Hard copies are available for the cost of reproduction. The Final EIS can also be reviewed at the City of Bremerton Community Development Department, 345 6th Street, Suite 600, Bremerton, WA; Monday through Friday, 8:30 a.m. to 4:30 p.m. at the Bremerton Housing Authority, 345 6th Street, Suite 200, Bremerton, WA; and at the following public libraries:

Downtown Bremerton Library (612 5th Street, Bremerton).

Sylvan Way Library (1301 Sylvan Way, Bremerton).

Silverdale Library (3450 NW Carlton, Silverdale).

Port Orchard Library (87 Sidney Street, Port Orchard).

FOR FURTHER INFORMATION CONTACT: Andrea Spencer, City of Bremerton Department of Community Development, 345 6th Street, Suite 600, Bremerton, WA 98337-1873; telephone (360) 473-5283; fax (360) 473-5278; and e-mail Andrea.Spencer@ci.bremerton.wa.us.

SUPPLEMENTARY INFORMATION: The Westpark public housing development was originally constructed in the early 1940's to provide temporary homes for defense workers and their families during World War II. The 82-acre site is located in West Bremerton, and is bounded by Kitsap Way on the north, Oyster Bay Road on the east, and State Route 3 on the west. There are currently 631 public housing units on the site, a community center and other community facilities. The existing site is physically isolated and physically deteriorated, and in 2003 it was designated as “blighted” by the City of Bremerton for purposes of community renewal efforts pursuant to the state Community Renewal Law (Chapter 35.81 Revised Code of Washington).

The Westpark Redevelopment, sponsored by the Bremerton Housing Authority, would demolish all existing housing structures and infrastructure and redevelop the site as a mixed-use, mixed-income, pedestrian oriented, master planned community. It would contain approximately 759 housing units; 60,000 square feet of commercial uses in a 5-acre village center and in mixed-use buildings; and 28 acres of parks and open space. New housing would be for sale and for rent, single family and multi-family, and would incorporate low income, affordable and market rate units to meet a variety of housing needs. All existing public housing units will be replaced either on-site (190 units) or off-site (441), at locations in the City and Kitsap County; no net loss of low income housing units would occur. The project will require relocation of all existing residents. Alternatives considered in the EIS include No Action (involving no redevelopment) and a Design Alternative (with a larger retail area, the same number of housing units, and additional stormwater controls).

Questions may be directed to the individual named above under the heading of FOR FURTHER INFORMATION CONTACT.

Dated: May 4, 2007.
Pamela H. Patenaude,
Assistant Secretary for Community Planning and Development.

[FR Doc. E7-9065 Filed 5-10-07; 8:45 am]

BILLING CODE 4210-67-P